CHEMICAL SAFETY AND HAZARD INVESTIGATION BOARD

Sunshine Act Meeting

In connection with its investigation into three iron dust flash fires at the Hoeganaes facility in Gallatin, TN., the U.S. Chemical Safety and Hazard Investigation Board (CSB) announces that it will hold a public meeting on November 16, 2011, in Gallatin to collect additional information to aide in its ongoing investigation of the incidents. Two workers were killed in the first iron dust incident on January 31, 2011, and the second iron dust incident on March 29, 2011 injured another employee. The third incident, a hydrogen explosion and resulting iron dust flash fires, claimed three lives and injured two others on May 27, 2011. The meeting will begin at 6 p.m. at the EPIC Event Center, 392 and 394 West Main St., Gallatin, TN 37066.

The meeting is free and open to the public. Pre-registration is not required, but to assure adequate seating, attendees are encouraged to pre-register by emailing their names and affiliations to publicmeeting@csb.gov by November 10, 2011.

At the meeting, CSB staff will discuss with the Board the results of their investigation to date into these incidents. In addition, a panel of outside experts and others will be invited to speak on a number of issues related to the investigation.

All staff presentations are preliminary and are intended solely to allow the Board to consider in a public forum various issues and factors involved in this case. No factual analyses, conclusions or findings presented by staff should be considered final.

After the conclusion of Hoeganaes case study discussion, the Board will conclude the public meeting by considering certain board business matters that have been calendared during board votes during FY 2011. Such matters involve the resolution of proposed status changes to recommendations made in the Imperial Sugar investigation, other board affairs issues, and consideration and vote on the CSB Human Capital Plan.

Please notify CSB if a translator or interpreter is needed, at least 5 business days prior to the public meeting. For more information, please contact the Chemical Safety and Hazard Investigation Board at (202) 261-7600, or visit our Web site at: http://www.csb.gov.

Dated: November 3, 2011.
John Lau,
Acting Managing Director.

[FR Doc. 2011-29092 Filed 11-4-11; 4:15 pm]

BILLING CODE 6350-01-P